DEPARTMENT OF HEALTH AND HUMAN SERVICES

National Institutes of Health

National Library of Medicine Amended; Notice of Meeting

Notice is hereby given of a change in the meeting of the National Library of Medicine Special Emphasis Panel, July 7, 2017, 9:00 a.m. to 6:00 p.m., National Library of Medicine, 6705 Rockledge Drive, Suite 301, Bethesda, MD 20817 which was published in the Federal Register on May 22, 2017, 82 FR 97, Page 23280.

The meeting of the Special Emphasis Panel will be held as both an in-person meeting and a telephone review meeting. The meeting is closed to the public.

Dated: June 1, 2017.
Michelle Trout,
Program Analyst, Office of Federal Advisory Committee Policy.

[FR Doc. 2017-11719 Filed 6-6-17; 8:45 am]

BILLING CODE 4140-01-P